DEPARTMENT OF JUSTICE

Notice of Lodging of Partial Consent Decree Under the National Marine Sanctuaries Act

Notice is hereby given that on July 25, 2006, a proposed Partial Consent Decree with All Oceans Transportation, Inc., Italia Marittima S.p.A. (formerly Lloyd Triestino Di Navigazione), and Yang Ming Marine Transport Corporation, in personam; and against the M/V YM PROSPERITY (previously known as the M/V MED TAIPEI), in rem, in United States v. All Oceans Transportation, Inc., et al., No. 06-4519-JF (N.D. Cal.), was lodged with the United States District Court for the Northern District of California.

In this action, the United States seeks to recover from various defendants, pursuant to the National Marine Sanctuaries Act, 16 U.S.C. 1443(a)(1), response costs and damages resulting from destruction of or injury to natural resources caused by the loss of approximately fifteen shipping containers from the M/V YM Prosperity in the Monterey Bay Marine Sanctuary on or about February 26, 2004. Under the proposed Partial Consent Decree, defendants will pay $3,250,000.00 to the United States.

The Department of Justice will receive for a period of thirty (30) days from the date of this publication comments relating to the Partial Consent Decree. Comments should be addressed to the Assistant Attorney General, Environment and Natural Resources Division, P.O. Box 7611, U.S. Department of Justice, Washington, DC 20044-7611, and should refer to United States v. All Oceans Transportation, Inc., et al., (N.D. Cal.), DOJ Ref. No. 90-5-1-1-08681.

The Partial Consent Decree may be examined at the office of the Monterey Bay National Marine Sanctuary, 299 Foam Street, Monterey, California. During the public comment period, the Partial Consent Decree may also be examined on the following Department of Justice Web site, http://www.usdoj.gov/enrd/open.html. A copy of the Partial Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States v. All Oceans Transportation, Inc., et al., (N.D. Cal.), DOJ Ref. No. 90-5-1-1-08681, and enclose a check in the amount of $10.00 (25 cents per page reproduction cost) payable to the U.S. Treasury or, if by e-mail or fax, forward a check in that amount to the Consent Decree Library at the stated address.

Henry S. Friedman,
Assistant Section Chief, Environmental Enforcement Section, Environment and Natural Resources Division.

[FR Doc. 06-6810 Filed 8-9-06; 8:45 am]

BILLING CODE 4410-15-M